NUCLEAR REGULATORY COMMISSION

Sunshine Act Meeting

AGENCY: Nuclear Regulatory Commission.

DATE: Weeks of November 3, 10, 17, 24, December 1, 8, 2003.

PLACE: Commissioners' Conference Room, 11555 Rockville Pike, Rockville, Maryland.

STATUS: Public and Closed.

MATTERS TO BE CONSIDERED:

Week of November 3, 2003

There are no meetings scheduled for the Week of November 3, 2003

Week of November 10, 2003—Tentative

Wednesday, November 12, 2003

2 p.m. Discussion of Intergovernmental Issues (Closed—Ex. 9)

Week of November 17, 2003—Tentative

Thursday, November 20, 2003

12:45 p.m. Briefing on Threat Environment Assessment (Closed—Ex. 1)

Week of November 24, 2003—Tentative

There are no meetings scheduled for the Week of November 24, 2003

Week of December 1, 2003—Tentative

There are no meetings scheduled for the Week of November 1, 2003

Week of December 8, 2003—Tentative

Tuesday, December 9, 2003

1:30 p.m. Briefing on Equal Employment Opportunity Program, (Public Meeting) (Contact: Corenthis Kelley, 301-415-7380)

* The schedule for Commission meetings is subject to change on short notice. To verify the status of meetings call (recording)—(301) 415-1292. Contact person for more information: David Louis Gamberoni (301) 415-1651.

The NRC Commission Meeting Schedule can be found on the Internet at: http://www.nrc.gov/what-we-do/policy-making/schedule.html.

This notice is distributed by mail to several hundred subscribers; if you no longer wish to receive it, or would like to be added to the distribution, please contact the Office of the Secretary, Washington, DC 20555 (301) 415-1969. In addition, distribution of this meeting notice over the Internet system is available. If you are interested in receiving this Commission meeting schedule electronically, please send an electronic message to dkw@nrc.gov.

Dated: October 30, 2003.
D.L. Gamberoni,
Technical Coordinator, Office of the Secretary.

[FR Doc. 03-27799 Filed 10-31-03; 10:22 am]

BILLING CODE 7590-01-M